DEPARTMENT OF ENERGY

Federal Energy Regulatory Commission

[Docket No. RM98-1-000]

Records Governing Off-the Record Communications; Public Notice

This constitutes notice, in accordance with 18 CFR 385.2201(b), of the receipt of prohibited and exempt off-the-record communications.

Order No. 607 (64 FR 51222, September 22, 1999) requires Commission decisional employees, who make or receive a prohibited or exempt off-the-record communication relevant to the merits of a contested proceeding, to deliver to the Secretary of the Commission, a copy of the communication, if written, or a summary of the substance of any oral communication.

Prohibited communications are included in a public, non-decisional file associated with, but not a part of, the decisional record of the proceeding. Unless the Commission determines that the prohibited communication and any responses thereto should become a part of the decisional record, the prohibited off-the-record communication will not be considered by the Commission in reaching its decision. Parties to a proceeding may seek the opportunity to respond to any facts or contentions made in a prohibited off-the-record communication, and may request that the Commission place the prohibited communication and responses thereto in the decisional record. The Commission will grant such a request only when it determines that fairness so requires. Any person identified below as having made a prohibited off-the-record communication shall serve the document on all parties listed on the official service list for the applicable proceeding in accordance with Rule 2010, 18 CFR 385.2010.

Exempt off-the-record communications are included in the decisional record of the proceeding, unless the communication was with a cooperating agency as described by 40 CFR 1501.6, made under 18 CFR 385.2201(e)(1)(v).

The following is a list of off-the-record communications recently received by the Secretary of the Commission. The communications listed are grouped by docket numbers in ascending order. These filings are available for review at the Commission in the Public Reference Room or may be viewed on the Commission's Web site at http://www.ferc.gov using the eLibrary link. Enter the docket number, excluding the last three digits, in the docket number field to access the document. For assistance, please contact FERC, Online Support at FERCOnlineSupport@ferc.gov or toll free at (866) 208-3676, or for TTY, contact (202) 502-8659.

Docket No. | Filed date | Presenter or requester
Prohibited:
1. CP13-73-000, CP13-74-000 | 5-7-14 | Rancho Sierra Vista de Sasabe.
2. P-12790-002 | 5-8-14 | Anne P. Delo and Rosemary E. Giuliano.
3. P-12790-000, P-12790-002 | 5-13-14 | FERC Staff.¹
4. P-12790-000 | 5-13-14 | FERC Saff.²
Exempt:
1. ER14-1050-000 | 5-5-14 | Members of Congress.³
2. CP12-507-000 | 5-7-14 | State Representative Jim Keffer.
3. ER13-1380-000 | 5-7-14 | Members of New York State Senate.⁴
4. ER13-1380-000 | 5-7-14 | Town of North East, New York.
5. CP13-113-000 | 5-7-14 | Office of the Sheriff, Calvert County, Maryland.
6. P-2305-036 | 5-8-14 | US Environmental Protection Agency.
7. CP14-96-000 | 5-8-14 | State of Maine Governor Pal R. LaPage.
8. CP14-96-000 | 5-9-14 | Members of Congress.⁵
9. CP14-96-000 | 5-9-14 | Members of State of Maine Sentate.⁶
10. ER13-1380-000, ER14-500-000 | 5-12-14 | Dutchess County Executive Marc Molinaro.⁷
11. CP14-125-000, CP14-126-000 | 5-14-14 | Hon. Bill Cassidy.⁸
12. P-14537-001 | 5-14-14 | FERC Staff.⁹
13. ER13-1380-000 | 5-14-14 | Intercounty Legislative Committee of the Adirondacks.
14. ER13-1380-000 | 5-15-14 | Hon. Sean Patrick Maloney.
15. ER13-1380-000 | 5-15-14 | New York Assemblyman Kevin Kevin A. Cahill.
16. ER13-1380-000 | 5-15-14 | Orange County, New York.
17. ER13-1380-000 | 5-15-14 | Dutchess County Legislature Robert G. Rolison.
18. ER13-1380-000, ER14-500-00 | 5-15-14 | Hon. Charles Schumer.¹⁰
19. CP13-483-000, CP13-492-000 | 5-15-14 | FERC Staff.¹¹
20. CP13-492-000 | 5-15-14 | FERC Staff.¹²
21. P-2210-207 | 5-20-14 | Hon. James P. Moran.
22. CP14-96-000 | 5-20-14 | State of Maine Representative Mark W. Eves.
23. ER13-1380-000, ER14-500-000 | 5-20-14 | Dutchess County Legislature.¹³
24. ER13-1380-000, ER14-500-000 | 5-20-14 | Orange County, New York Legislative Jeffrey Berkman.
25. CP12-509-000 | 5-22-14 | FERC Staff.¹⁴
¹ eMails dated May 6, and May 7, 2014 from Lee Sherwood.
² eMail dated May 6, 2014 from Carol Haskins.
³ Hons. Jeanne Shaheen, Patrick Leahy, Edward J. Markey, Kelly Ayotte, Richard Blumenthal, Christopher Murphy, Sheldon Whitehouse, Elizabeth Warren, Jack Reed.
⁴ Andrea Stewart-Cousins, George Latimer, Ruth Hassell-Thompson, Cecilia Tkaczyk, Terry Gipson, Neil Breslin.
⁵ Joe Courtney, Michael H. Michaud, John B. Larson, Jim Himes, Jim Langevin, Rosa DeLauro, David Cicilline, Elizabeth Esty.
⁶ Individual letters from Justin L. Alfond and Roger Katz.
⁷ Summary of May 12, 2014 telephone call with Acting Chairman LaFleur.
⁸ Summary of May 8, 2014 telephone call with Acting Chairman LaFleur.
⁹ Telephone memo for May 13, 2014 telephone call with Pennsylvania Coastal Resource Management Program.
¹⁰ Summary of May 15, 2014 conversation with Acting Chairman LaFleur.
¹¹ Notes from May 14, 2014 bi-weekly telephone conference with federal cooperating agencies.
¹² Memo forwarding letter to Norman Bay, dated April 30, 2014 from Marcella and Alan Laudani.
¹³ Letter signed by Representatives of Legislative Districts 1 through 25.
¹⁴ Summary of May 20, 2014 conversation with Lisa Tonery, counsel for Freeport LNG.

Dated: May 27, 2014.
Kimberly D. Bose,
Secretary.

[FR Doc. 2014-12883 Filed 6-3-14; 8:45 am]

BILLING CODE 6717-01-P